DEPARTMENT OF DEFENSE

Office of the Secretary

32 CFR Part 54

[Docket ID: DOD-2017-OS-0045]

RIN 0790-AJ98

Allotments for Child and Spousal Support

AGENCY: Office of the Under Secretary of Defense (Comptroller), DoD.

ACTION: Final rule.

SUMMARY: This final rule removes DoD's regulation that relates to allotments for child and spousal support because it duplicates DoD's internal policy on statutorily required child or child and spousal support allotments that cover members of the Military Services on extended active duty. This internal policy is located in the DoD Financial Management Regulation, Volume 7A, Chapter 41 “Garnishments and Other Involuntary Allotments.”

DATES: This rule is effective on April 3, 2019.

FOR FURTHER INFORMATION CONTACT: Kellie Allison at 703-614-0410.

SUPPLEMENTARY INFORMATION: It has been determined that publication of this CFR part removal for public comment is impracticable, unnecessary, and contrary to public interest since it is based on removing DoD internal policies and procedures that are publically available on the Department's website.

DoD internal guidance will continue to be published in DoD's Financial Management Regulation, Volume 7A, Chapter 41, available at http://comptroller.defense.gov/Portals/45/documents/fmr/archive/07aarch/07a_41_Dec10.pdf.

Removal of this part does not reduce burden or costs to the public as it will not change how notification is provided under Volume 7A, Chapter 41. This rule is not significant, therefore the requirements of Executive Order 13771, “Reducing Regulation and Controlling Regulatory Costs,” do not apply.

List of Subjects in 32 CFR Part 54

Alimony, Child support, Military personnel, Reporting and recordkeeping requirements, Wages.

PART 54—[REMOVED]

Accordingly, by the authority of 5 U.S.C. 301, 32 CFR part 54 is removed.

Dated: March 29, 2019.
Shelly E. Finke,
Alternate OSD Federal Register Liaison Officer, Department of Defense.

[FR Doc. 2019-06479 Filed 4-2-19; 8:45 am]

BILLING CODE 5001-06-P